DEPARTMENT OF LABOR

Employment and Training Administration

[TA-W-38,439 and NAFTA-4365]

Eastern Fine Paper; Brewer, Maine; Notice of Affirmative Determination Regarding Application for Reconsideration

By letter of March 16, 2001, the company requested administrative reconsideration of the Department of Labor's Notices of Negative Determination Regarding Eligibility to Apply for Worker Adjustment Assistance (TA-W-38,439) and NAFTA-Transitional Adjustment Assistance (NAFTA-4365) for workers of the subject firm. The denial notices applicable to workers of Eastern Fine Paper, Inc., Brewer, Maine, were signed on February 7, 2001, and published in the Federal Register on March 2, 2001, TA-W-48,439 (66 FR 13086) and NAFTA-4319 (66 FR 13087).

The company presents new information regaridng production at the plant that warrants further petition investigation.

Conclusion

After careful review of the application, I conclude that the claim is of sufficient weight to justify reconsideration of the Depratment of Labor's prior decision. The application is, threfore, granted.

Dated: Signed at Washington, D.C., this 27th day of April, 2001.
Linda G. Poole,
Certifying Officer, Division of Trade Adjustment Assistance.

[FR Doc. 01-11629 Filed 5?-8-01; 8:45 am]

BILLING CODE 4510-30-M